DEPARTMENT OF LABOR

Employee Benefits Security Administration

Proposed Extension of Information Collection Requests Submitted for Public Comment

AGENCY: Employee Benefits Security Administration, Department of Labor.

ACTION: Notice.

SUMMARY: The Department of Labor (the Department), in accordance with the Paperwork Reduction Act of 1995 (PRA 95) (44 U.S.C. 3506(c)(2)(A)), provides the general public and Federal agencies with an opportunity to comment on proposed and continuing collections of information. This helps the Department assess the impact of its information collection requirements and minimize the public's reporting burden. It also helps the public understand the Department's information collection requirements and provide the requested data in the desired format. The Employee Benefits Security Administration (EBSA) is soliciting comments on the proposed extension of the information collection requests (ICRs) contained in the documents described below. A copy of the ICRs may be obtained by contacting the office listed in the ADDRESSES section of this notice. ICRs also are available at reginfo.gov (http://www.reginfo.gov/public/do/PRAMain).

DATES: Written comments must be submitted to the office shown in the Addresses section on or before January 22, 2016.

ADDRESSES: G. Christopher Cosby, Department of Labor, Employee Benefits Security Administration, 200 Constitution Avenue NW., Room N-5718, Washington, DC 20210, cosby.chris@dol.gov, (202) 693-8410, FAX (202) 693-4745 (these are not toll-free numbers).

SUPPLEMENTARY INFORMATION: This notice requests public comment on the Department's request for extension of the Office of Management and Budget's (OMB) approval of ICRs contained in the rules and prohibited transactions described below. The Department is not proposing any changes to the existing ICRs at this time. An agency may not conduct or sponsor, and a person is not required to respond to, an information collection unless it displays a valid OMB control number. A summary of the ICRs and the current burden estimates follows:

Agency: Employee Benefits Security Administration, Department of Labor.

Title: Prohibited Transaction Class Exemptions for Multiple Employer Plans and Multiple Employer Apprenticeship Plans, PTE 76-1, PTE 77-10, PTE 78-6.

Type of Review: Extension of a currently approved collection of information.

OMB Number: 1210-0058.

Affected Public: Businesses or other for-profits, not-for-profit institutions.

Respondents: 5,718.

Responses: 5,718.

Estimated Total Burden Hours: 1,430.

Estimated Total Burden Cost (Operating and Maintenance): $0.

Description: This ICR covers information collections contained in three related prohibited transaction class exemptions: PTE 76-1, PTE 77-10, and PTE 78-6. All three of these exemptions cover transactions that were recognized by the Department as being well-established, reasonable, and customary transactions in which collectively bargained multiple employer plans (principally, multiemployer plans, but also including other collectively bargained multiple employer plans) frequently engage in order to carry out their purposes.

PTE 76-1 provides relief, under specified conditions, for three types of transactions: (1) Part A of PTE 76-1 permits collectively bargained multiple employer plans to take several types of actions regarding delinquent or uncollectible employer contributions; (2) Part B of PTE 76-1 permits collectively bargained multiple employer plans, under specified conditions, to make construction loans to participating employers; and (3) Part C of PTE 76-1 permits collectively bargained multiple employer plans to share office space and administrative services, and the costs associated with such office space and services, with parties in interest. PTE 77-10 complements Part C of PTE 76-1 by providing relief from the prohibitions of subsection 406(b)(2) of ERISA with respect to collectively bargained multiple employer plans sharing office space and administrative services with parties in interest if specific conditions are met. PTE 78-6 provides an exemption to collectively bargained multiple employer apprenticeship plans for the purchase or leasing of personal property from a contributing employer (or its wholly owned subsidiary) and for the leasing of real property (other than office space within the contemplation of section 408(b)(2) of ERISA) from a contributing employer (or its wholly owned subsidiary) or an employee organization any of whose members' work results in contributions being made to the plan.

Each of these PTEs requires, as part of its conditions, either written agreements, recordkeeping, or both. The Department has combined the information collection provisions of the three PTEs into one ICR because it believes that the public benefits from having the opportunity to collectively review these closely related exemptions and their similar information collections. The Department previously submitted an ICR to OMB for approval of the information collections in PTEs 76-1, 77-10, and 78-6 and received OMB approval under OMB Control No. 1210-0058. The current approval is scheduled to expire on February 29, 2016.

Agency: Employee Benefits Security Administration, Department of Labor.

Title: HIPAA Notice of Enrollment Rights.

Type of Review: Extension of a currently approved information collection.

OMB Number: 1210-0101.

Affected Public: Businesses or other for-profits, not-for-profit institutions.

Respondents: 2,283,712.

Responses: 3,636,426.

Estimated Total Burden Hours: 1.

Estimated Total Burden Cost (Operating and Maintenance): $65,000.

Description: Subsection (c) of 29 CFR 2590.701-6 requires group health plans to provide a notice describing the plan's special enrollment rules to each employee who is offered an initial opportunity to enroll in the group health plan. The special enrollment rules described in the notice of special enrollment generally provide enrollment rights to employees and their dependents in specified circumstances occurring after the employee or dependent initially declines to enroll in the plan. EBSA previously submitted an ICR concerning the notice of special enrollment to OMB for review under the PRA and received approval under OMB Control No. 1210-0101. The current ICR approval is scheduled to expire on February 29, 2016.

Agency: Employee Benefits Security Administration, Department of Labor.

Title: Annual Report for Multiple Employer Welfare Arrangements (Form M-1).

Type of Review: Extension of a currently approved collection of information.

OMB Number: 1210-0116.

Affected Public: Businesses or other for-profits, not-for-profit institutions.

Respondents: 484.

Responses: 484.

Estimated Total Burden Hours: 130.

Estimated Total Burden Cost (Operating and Maintenance): $91,996.

Description: The Health Insurance Portability and Accountability Act of 1996 (HIPAA), codified as Part 7 of Title I of the Employee Retirement Security Act of 1974 (ERISA), was enacted to improve the portability and continuity of health care coverage for participants and beneficiaries of group health plans. In the interest of assuring compliance with Part 7, section 101(g) of ERISA, added by HIPAA, further permits the Secretary of Labor (the Secretary) to require multiple employer welfare arrangements (MEWAs), as defined in section 3(40) of ERISA, to report to the Secretary in such form and manner as the Secretary might determine. The Department published a final rule providing for such reporting on an annual basis, together with a form (Form M-1) to be used by MEWAs for the annual report. The reporting requirement enables the Secretary to determine whether the requirements of Part 7 of ERISA are being carried out.

The Patient Protection and Affordable Care Act (Pub. L. 111-148, 124 Stat. 119) and the Health Care and Education Reconciliation Act of 2010 (Pub. L.111-152, 124 Stat. 1029) (these are collectively known as the “Affordable Care Act”) amended section 101(g) of ERISA. Under this amendment, MEWAs providing benefits consisting of medical care (within the meaning of section 733(a)(2) of ERISA, 29 U.S.C. 1191b(a)(2)), which are not group health plans must now register with the Secretary prior to operating in a State.

EBSA previously submitted an ICR for the information collection in Form M-1 to OMB for review under the PRA and received approval under OMB control number 1210-0116. This current approval is scheduled to expire on February 29, 2016.

Agency: Employee Benefits Security Administration, Department of Labor.

Title: MEWA ALJ Administrative Hearing Procedures.

Type of Review: Extension of a currently approved collection of information.

OMB Number: 1210-0148.

Affected Public: Businesses or other for-profits.

Respondents: 10.

Responses: 10.

Estimated Total Burden Hours: 20.

Estimated Total Burden Cost (Operating and Maintenance): $548,900.

Description: Congress enacted section 6605 of the Affordable Care Act, Public Law 111-148, 124 Stat. 119, 780 (2010), which adds section 521 to ERISA, to give the Secretary additional enforcement authority to protect plan participants, beneficiaries, employees or employee organizations, or other members of the public against fraudulent, abusive, or financially hazardous Multiple Employer Welfare Arrangements (MEWAs). This section authorizes the Secretary to issue ex parte cease and desist orders when it appears to the Secretary that the alleged conduct of a MEWA is “fraudulent, or creates an immediate danger to the public safety or welfare, or is causing or can be reasonably expected to cause significant, imminent, and irreparable public injury.” 29 U.S.C. 1151(a). A person that is adversely affected by the issuance of a cease and desist order may request an administrative hearing regarding the order. This request for an administrative hearing is an information collection under the Paperwork Reduction Act.

The Department previously submitted this information collection to OMB in an ICR that was approved under OMB Control Number 1210-0148. The current approval is scheduled to expire on February 29, 2016.

Agency: Employee Benefits Security Administration, Department of Labor.

Title: National Medical Support Notice—Part B.

Type of Review: Extension of a currently approved collection of information.

OMB Number: 1210-0113.

Affected Public: Businesses or other for-profits.

Respondents: 492,000.

Responses: 12,400,000.

Estimated Total Burden Hours: 1,000,000.

Estimated Total Burden Cost (Operating and Maintenance): $6,800,000.

Description: Section 609(a) of ERISA, requires each group health plan, as defined in ERISA section 607(1), to provide benefits in accordance with the applicable requirements of any “qualified medical child support order” (QMCSO). A QMCSO is, generally, an order issued by a state court or other competent state authority that requires a group health plan to provide group health coverage to a child or children of an employee eligible for coverage under the plan. In accordance with Congressional directives contained in the Child Support Performance and Incentive Act of 1998 (CSPIA), EBSA and the Federal Office of Child Support Enforcement (OCSE) in the Department of Health and Human Services (HHS) cooperated in the development of regulations to create a National Medical Support Notice (NMSN or Notice). The Notice simplifies the issuance and processing of qualified medical child support orders issued by state child support enforcement agencies, provides for standardized communication between state agencies, employers, and plan administrators, and creates a uniform and streamlined process for enforcement of medical child support obligations ordered by state child support enforcement agencies. The NMSN comprises two parts: Part A was promulgated by HHS and pertains to state child support enforcement agencies and employers; Part B was promulgated by the Department and pertains to plan administrators pursuant to ERISA. This solicitation of public comment relates only to Part B of the NMSN, which was promulgated by the Department. In connection with promulgation of Part B of the NMSN, the Department submitted an ICR to OMB for review, and OMB approved the information collections contained in Part B under OMB control number 1210-0113. OMB's current approval of this ICR is scheduled to expire on March 31, 2016.

Agency: Employee Benefits Security Administration, Department of Labor.

Title: Securities Lending by Employee Benefit Plans (PTE 2006-16).

Type of Review: Extension of a currently approved collection of information.

OMB Number: 1210-0065.

Affected Public: Businesses or other for-profits, Not-for-profit institutions.

Respondents: 85.

Responses: 850.

Estimated Total Burden Hours: 163.

Estimated Total Burden Cost (Operating and Maintenance): $4,943.

Description: This ICR covers information collections contained in PTE 2006-16. In 1981 and 1982, the Department issued two related prohibited transaction class exemptions, PTE 81-6 and PTE 82-63, that permit employee benefit plans to lend securities owned by the plans as investments to banks and broker-dealers and to make compensation arrangements for lending services provided by a plan fiduciary in connection with securities loans. In 2006, the Department promulgated PTE 2006-16, which combines and amends the exemptions previously provided under PTE 81-6 and PTE 82-63. The new exemption expands the categories of exempted transactions to include securities lending to foreign banks and broker-dealers that are domiciled in specified countries and to allow the use of additional forms of collateral, all subject to specified conditions.

Among other conditions, the class exemption requires a bank or broker-dealer that borrows securities from a plan to provide the plan with its most recent audited financial statement. The borrower must also affirm, when the loan is negotiated, that there has been no material adverse change in its financial condition since the previously audited statement.

The exemption also requires the agreements regarding the securities loan transaction or transactions and the compensation arrangement for the lending fiduciary to be contained in written documents. Individual agreements are not required for each transaction; rather the compensation agreement may be made in the form of a master agreement covering a series of transactions. The ICRs contained in PTE 2006-16 were approved by OMB under OMB Control No. 1210-0065, which currently is scheduled to expire on May 31, 2016.

Agency: Employee Benefits Security Administration, Department of Labor.

Title: Employee Retirement Income Security Act of 1974 Investment Manager Electronic Registration.

Type of Review: Extension of a currently approved collection of information.

OMB Number: 1210-0125.

Affected Public: Businesses or other for-profits, Not-for-profit institutions.

Respondents: 15.

Responses: 15.

Estimated Total Burden Hours: 18.

Estimated Total Burden Cost (Operating and Maintenance): $1,040.

Description: Section 3(38)(B) of ERISA imposes certain registration requirements on an investment adviser that wishes to be considered an investment manager under ERISA. In 1997, section 3(38) was amended to permit advisers to satisfy the registration requirements by registering electronically with the Investment Adviser Registration Depository (IARD) established and maintained by the Securities Exchange Commission (SEC). The Department promulgated a final regulation (69 FR 52120, Aug. 24, 2004) to implement the statutory change. The final regulation is codified at 29 CFR 2510.3-38. EBSA submitted an ICR requesting OMB approval of the information collection contained in 29 CFR 2510.3-38, and OMB approved the information collection under OMB control number 1210-0125. The current approval is scheduled to expire on May 31, 2016.

Agency: Employee Benefits Security Administration, Department of Labor.

Title: Access to Multiemployer Plan Information.

Type of Review: Extension of a currently approved collection of information.

OMB Number: 1210-0131.

Affected Public: Not-for-profit institutions, Businesses or other for-profits.

Respondents: 2,826.

Responses: 445,000.

Estimated Total Burden Hours: 32,800.

Estimated Total Burden Cost (Operating and Maintenance): $526,000.

Description: Section 101(k) of ERISA, as amended by the Pension Protection Act of 2006 requires the administrator of a multiemployer plan to provide copies of certain actuarial and financial documents about the plan to participants, beneficiaries, employee representatives and contributing employers upon request. The rule affects plan administrators, participants and beneficiaries and contributing employers of multiemployer plans. The Department previously submitted an ICR to OMB for approval of this information collection and received OMB approval under OMB Control No. 1210-0131. The current approval is scheduled to expire on May 31, 2016.

Agency: Employee Benefits Security Administration, Department of Labor.

Title: Summary Plan Description Requirements Under the Employee Retirement Income Security Act of 1974, as Amended.

Type of Review: Extension of a currently approved collection of information.

OMB Number: 1210-0039.

Affected Public: Businesses or other for-profits, Not-for-profit institutions.

Respondents: 2,984,011.

Responses: 106,376,000.

Estimated Total Burden Hours: 260,000.

Estimated Total Burden Cost (Operating and Maintenance): $295,771,000.

Description: Section 104(b) of ERISA requires the administrator of an employee benefit plan to furnish plan participants and certain beneficiaries with a Summary Plan Description (SPD) that describes, in language understandable to an average plan participant, the benefits, rights, and obligations of participants in the plan. The information required to be contained in the SPD is set forth in section 102(b) of ERISA. To the extent there is a material modification in the terms of the plan or a change in the required content of the SPD, section 104(b)(1) of ERISA requires the plan administrator to furnish participants and specified beneficiaries with a summary of material modifications (SMM) or summary of material reductions (SMR). The Department has issued regulations providing guidance on compliance with the requirements to furnish SPDs, SMMs, and SMRs. These regulations, which are codified at 29 CFR 2520.102-2, 102-3, and 29 CFR 104b-2 and 104b-3, contain information collections for which the Department has obtained OMB approval under OMB Control No. 1210-0039. The current approval is scheduled to expire on June 30, 2016.

Agency: Employee Benefits Security Administration, Department of Labor.

Title: Employee Benefit Plan Claims Procedure Under the Employee Retirement Income Security Act.

Type of Review: Extension of a currently approved collection of information.

OMB Number: 1210-0053.

Affected Public: Businesses or other for-profits, Not-for-profit institutions.

Respondents: 5,770,307.

Responses: 333,612,550.

Estimated Total Burden Hours: 523,000.

Estimated Total Burden Cost (Operating and Maintenance): $568,700,000.

Description: Section 503 of ERISA requires each employee benefit plan to provide, pursuant to regulations promulgated by the Secretary of Labor, notice in writing to any participant or beneficiary whose claim for benefits under the plan has been denied. The notice must set forth the specific reasons for the denial and must be written in a manner calculated to be understood by the claimant. Plans must also give a participant or beneficiary whose claim has been denied a reasonable opportunity to obtain a full and fair review of any benefit claim denial by the appropriate named fiduciary.

The Department issued a regulation pertaining to benefit claims procedures in 1977 and amended that regulation in a Notice of Final Rulemaking (NFRM) published on November 21, 2000 (65 FR 70246). The regulation pertaining to benefit claims procedures is codified at 29 CFR 2560.503-1. The regulation requires plans to establish reasonable claims procedures that meet specified standards governing the timing and content of notices and disclosures. EBSA submitted an ICR for the information collections in 29 CFR 2560.503-1 to OMB for review and clearance in connection with publication of the NFRM, and OMB approved the information collections under OMB control number 1210-0053. That current approval is scheduled to expire on July 31, 2016.

Agency: Employee Benefits Security Administration, Department of Labor.

Title: PTE 80-83—Sale of Securities To Reduce Indebtedness of Party in Interest.

Type of Review: Extension of a currently approved collection of information.

OMB Number: 1210-0064.

Affected Public: Businesses or other for-profits.

Respondents: 25.

Responses: 25.

Estimated Total Burden Hours: 15.

Estimated Total Burden Cost (Operating and Maintenance): $0.

Description: PTE 80-83 provides an exemption from certain prohibited transaction provisions of ERISA and from certain taxes imposed by the Internal Revenue Code of 1986 (Code) for transactions in which an employee benefit plan purchases securities when the proceeds from such purchase may be used to reduce or retire a debt owed by a party in interest with respect to such plan, provided that specified conditions are met. Among other conditions, PTE 80-83 requires that adequate records pertaining to an exempted transaction be maintained for six years. The Department has received approval from OMB for this ICR under OMB Control No. 1210-0064. The current approval is scheduled to expire on July 31, 2016.

Agency: Employee Benefits Security Administration, Department of Labor.

Title: Prohibited Transaction Class Exemption 75-1, Security Transactions With Broker-Dealers, Reporting Dealers, and Banks.

Type of Review: Extension of a currently approved collection of information.

OMB Number: 1210-0092.

Affected Public: Businesses or other for-profits.

Respondents: 7,492.

Responses: 7,492.

Estimated Total Burden Hours: 1,249.

Estimated Total Burden Cost (Operating and Maintenance): $0.

Description: PTE 75-1 provides exemptions from certain prohibited transaction provisions of ERISA, and the Code for specified types of transactions between employee benefit plans and broker-dealers, reporting dealers and banks relating to securities purchases and sales, provided specified conditions are met. The exempted transactions include an employee benefit plan's purchase of securities from broker-dealers' inventories of stocks, from underwriting syndicates in which a plan fiduciary is a member, from banks, from reporting dealers, and from a market-maker even if a market-maker is a plan fiduciary. The exempted transactions also include, under certain conditions, a plan's accepting an extension of credit from a broker-dealer for the purpose of facilitating settlement of a securities transaction. Among other conditions, PTE 75-1 requires that a party seeking to rely on the exemption with respect to a transaction maintain adequate records of the transaction for a period of six years. The Department has obtained approval from the OMB for this information collection under OMB Control No. 1210-0092. The current approval is scheduled to expire on July 31, 2016.

Agency: Employee Benefits Security Administration, Department of Labor.

Title: Prohibited Transaction Class Exemption 88-59, Residential Mortgage Financing Arrangements Involving Employee Benefit Plans.

Type of Review: Extension of a currently approved collection of information.

OMB Number: 1210-0095.

Affected Public: Businesses or other for-profits, Not-for-profit institutions.

Respondents: 2,187.

Responses: 10,936.

Estimated Total Burden Hours: 911.

Estimated Total Burden Cost (Operating and Maintenance): $0.

Description: PTE 88-59 provides an exemption from certain prohibited transaction provisions of ERISA and from certain taxes imposed by the Code for transactions in which an employee benefit plan provides mortgage financing to purchasers of residential dwelling units, provided specified conditions are met. Among other conditions, PTE 88-59 requires that adequate records pertaining to exempted transactions be maintained for the duration of the pertinent loan. This recordkeeping requirement constitutes an information collection within the meaning of the PRA, for which the Department has obtained approval from the Office of Management and Budget (OMB) under OMB Control No. 1210-0095. The OMB approval is currently scheduled to expire on July 31, 2016.

Agency: Employee Benefits Security Administration, Department of Labor.

Title: Petition for Finding Under Employee Retirement Income Security Act Section 3(40).

Type of Review: Extension of a currently approved collection of information.

OMB Number: 1210-0119.

Affected Public: Businesses or other for-profits, Not-for-profit institutions.

Respondents: 10.

Responses: 10.

Estimated Total Burden Hours: 50.

Estimated Total Burden Cost (Operating and Maintenance): $38,454.

Description: Rules codified beginning at 29 CFR 2570.150 set forth an administrative procedure (“procedural rules”) for obtaining a determination by the Department as to whether a particular employee benefit plan is established or maintained under or pursuant to one or more collective bargaining agreements for purposes of section 3(40) of ERISA. These procedural rules concern specific criteria set forth in 29 CFR 2510.3-40 (“criteria rules”), which, if met, constitute a finding by the Department that a plan is collectively bargained. Plans that meet the requirements of the criteria rules are not subject to state law. Among other requirements, the procedural rules require submission of a petition and affidavits by parties seeking a finding. The Department has obtained approval from OMB, under OMB Control No. 1210-0119, for the information collections contained in its rules for a finding under section 3(40). The current approval is scheduled to expire on July 31, 2016.

Agency: Employee Benefits Security Administration, Department of Labor.

Title: Plan Asset Transactions Determined by Independent Qualified Professional Asset Managers under Prohibited Transaction Exemption 84-14.

Type of Review: Extension of a currently approved collection of information.

OMB Number: 1210-0128.

Affected Public: Businesses or other for-profits.

Respondents: 5,100.

Responses: 5,151.

Estimated Total Burden Hours: 122,438.

Estimated Total Burden Cost (Operating and Maintenance): $51,000,000.

Description: PTE 84-14, a class exemption that permits various parties that are related to employee benefit plans to engage in transactions involving plan assets if, among other conditions, the assets are managed by “qualified professional asset managers” (QPAMs) that are independent of the parties in interest and which meet specified financial standards. The exemption provides additional exemptive relief for employers to furnish limited amounts of goods and services to a managed fund in the ordinary course of business. Limited relief also is provided for leases of office or commercial space between managed funds and QPAMs or contributing employers. Finally, relief is provided for transactions involving places of public accommodation owned by a managed fund. QPAMs are permitted to manage an investment fund containing the assets of the QPAM's own plan or an affiliate's plan.

The Department has obtained approval for the information collections from OMB under OMB Control No. 1210-0128. The current approval is scheduled to expire on July 31, 2016.

Agency: Employee Benefits Security Administration, Department of Labor.

Title: Statutory Exemption for Cross-Trading of Securities.

Type of Review: Extension of a currently approved collection of information.

OMB Number: 1210-0130.

Affected Public: Businesses or other for-profits, Not-for-profit institutions.

Respondents: 315.

Responses: 2,834.

Estimated Total Burden Hours: 3,290.

Estimated Total Burden Cost (Operating and Maintenance): $14,000.

Description: The Interim Final Rule on Statutory Exemption for Cross-Trading of Securities implements the content requirements for the written cross-trading policies and procedures required under section 408(b)(19)(H) of ERISA, as added by section 611(g) of the Pension Protection Act of 2006, Public Law 109-280 (PPA). Section 611(g)(1) of the PPA created a new statutory exemption, added to section 408(b) of ERISA as subsection 408(b)(19), that exempts from the prohibitions of sections 406(a)(1)(A) and 406(b)(2) of ERISA those cross-trading transactions involving the purchase and sale of a security between an account holding assets of a pension plan and any other account managed by the same investment manager, provided that certain conditions are satisfied. Section 611(g)(3) of the PPA further directed the Secretary to issue regulations, within 180 days after enactment, regarding the content of the policies and procedures to be adopted by an investment manager to satisfy the conditions of the new statutory exemption.

The Department issued a final cross-trading regulation on October 7, 2008. The recordkeeping requirement in the regulation constitutes an information collection within the meaning of the PRA, for which the Department has obtained approval from OMB under OMB Control No. 1210-0130. The current approval is scheduled to expire on July 31, 2016.

Agency: Employee Benefits Security Administration, Department of Labor.

Title: Plan Asset Transactions Determined by In-House Asset Managers under Prohibited Transaction Class Exemption 96-23.

Type of Review: Extension of a currently approved collection of information.

OMB Number: 1210-0145.

Affected Public: Businesses or other for-profits.

Respondents: 40.

Responses: 20.

Estimated Total Burden Hours: 940.

Estimated Total Burden Cost (Operating and Maintenance): $400,000.

Description: PTE 96-23, a class exemption, permits various transactions involving employee benefit plans whose assets are managed by in-house asset managers (INHAMs), provided the conditions of the exemption are met. The Department submitted the ICR included in the Proposed Amendment to PTE 96-23 for Plan Asset Transactions Determined by In-House Asset Managers to OMB for review and clearance at the time the Notice of the proposed exemption was published in the Federal Register (June 14, 2010, 75 FR 33642). OMB most recently approved the amendment under OMB control number 1210-0145, on July 26, 2013. The current approval will expire on July 31, 2016.

II. Focus of Comments

The Department is particularly interested in comments that:

• Evaluate whether the collections of information are necessary for the proper performance of the functions of the agency, including whether the information will have practical utility;

• Evaluate the accuracy of the agency's estimate of the collections of information, including the validity of the methodology and assumptions used;

• Enhance the quality, utility, and clarity of the information to be collected; and

• Minimize the burden of the collection of information on those who are to respond, including through the use of appropriate automated, electronic, mechanical, or other technological collection techniques or other forms of information technology, e.g., by permitting electronic submissions of responses.

Comments submitted in response to this notice will be summarized and/or included in the ICRs for OMB approval of the extension of the information collection; they will also become a matter of public record.

Joseph S. Piacentini,
Director, Office of Policy and Research, Employee Benefits Security Administration.

[FR Doc. 2015-29746 Filed 11-20-15; 8:45 am]

BILLING CODE 4510-29-P